ENVIRONMENTAL PROTECTION AGENCY

[EPA-HQ-OAR-2004-0500; FRL-9719-5]

Agency Information Collection Activities; Proposed Collection; Comment Request; Information Collection Activities Associated With EPA's ENERGY STAR Program in the Residential Sector; EPA ICR No. 2193.03

AGENCY: Environmental Protection Agency.

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on February 28, 2013. Before submitting the ICR to OMB for review and approval, EPA is soliciting comments on specific aspects of the proposed information collection as described below.

DATES: Comments must be submitted on or before October 22, 2012.

ADDRESSES: Submit your comments, identified by Docket ID No. EPA-HQ-OAR-2004-0500, by one of the following methods:

• www.regulations.gov: Follow the on-line instructions for submitting comments.

• Email: a-and-r-Docket@epa.gov.

• Fax: (202) 566-9744.

• Mail: U.S. Environmental Protection Agency, EPA Docket Center, Air and Radiation Docket, Mailcode 28221T, 1200 Pennsylvania Ave. NW., Washington, DC 20460.

• Hand Delivery: Air and Radiation Docket in the EPA Docket Center (EPA/DC), EPA West Building, Room 3334, 1301 Constitution Ave. NW., Washington, DC. Such deliveries are only accepted during the Docket's normal hours of operation, and special arrangements should be made for deliveries of boxed information.

Instructions: Direct your comments to Docket ID No. EPA-HQ-OAR-2004-0500. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Brian Ng, Energy Star Residential Branch, Mailcode 6202J, Environmental Protection Agency, 1200 Pennsylvania Ave. NW., Washington, DC 20460; telephone number: (202) 343-9162; fax number: (202) 343-2200; email address: ng.brian@epa.gov.

SUPPLEMENTARY INFORMATION:

How can I access the docket and/or submit comments?

EPA has established a public docket for this ICR under Docket ID No. EPA-HQ-OAR-2004-0500, which is available for online viewing at www.regulations.gov, or in person viewing at the Air and Radiation Docket in the EPA Docket Center (EPA/DC), EPA West Building, Room 3334, 1301 Constitution Ave. NW., Washington, DC. The EPA/DC Public Reading Room is open from 8 a.m. to 4:30 p.m., Monday through Friday, excluding legal holidays. The telephone number for the Reading Room is 202-566-1744, and the telephone number for the Air and Radiation Docket is 202-566-1742.

Use www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected entities: Entities potentially affected by this action are home builders, modular and manufactured home plants, developers, verification organizations, lenders, energy efficiency program sponsors (e.g., national, regional, state, or local government entities, utilities), architects, home plan designers, retailers, contractors, and homeowners.

Title: Information Collection Activities Associated with EPA's ENERGY STAR Program in the Residential Sector.

ICR numbers: EPA ICR No. 2193.03, OMB Control No. 2060-0586.

ICR status: This ICR is currently scheduled to expire on February 28, 2013. An Agency may not conduct or sponsor, and a person is not required to respond to, a collection of information, unless it displays a currently valid OMB control number. The OMB control numbers for EPA's regulations in title 40 of the CFR, after appearing in the Federal Register when approved, are listed in 40 CFR part 9 and are displayed either by publication in the Federal Register or by other appropriate means, such as on the related collection instrument or form, if applicable. The display of OMB control numbers in certain EPA regulations is consolidated in 40 CFR part 9.

Abstract: Improving energy efficiency is one of the easiest, fastest, and most cost-effective solutions for reducing greenhouse gas (GHG) emissions, which contribute to climate change. As one of our nation's important environmental challenges, climate change demands practical, proven solutions that can be implemented today to protect us tomorrow. Under the EPA's leadership many American consumers, businesses, and organizations have already taken action. Their investments in energy efficiency are transforming the market for efficient homes, products, buildings, and practices, creating jobs, and stimulating the economy.

The ENERGY STAR program has been instrumental in identifying cost-effective, innovative solutions for reducing GHG emissions since it was launched by EPA in 1992. This voluntary, market-based, public-private partnership program has boosted the adoption of energy-efficient products, homes, buildings, practices, and services through valuable partnerships, objective measurement tools, and consumer education. ENERGY STAR helps to dismantle barriers to widespread energy efficiency by serving as a trusted source of unbiased information that helps consumers and businesses make choices that are good for the environment and the economy.

Through 2011, nearly 20,000 organizations have partnered with EPA, improved efficiency, and realized significant financial and environmental benefits. Americans, with the help of ENERGY STAR, prevented 210 million metric tons of GHG emissions in 2011 alone—equivalent to the annual emissions from 41 million vehicles—and reduced their utility bills by $23 billion.

EPA first developed energy efficiency guidelines for new homes in 1995. ENERGY STAR's existing homes effort was rolled out in 2000 to promote cost-effective upgrades in the existing homes market. Both of these efforts promote cost effective, whole house energy efficiency improvements that are independently verified by third parties. Through 2011 there have been more than 1.3 million ENERGY STAR certified new homes built in the U.S., and more than 50,000 existing homes have been improved through the whole house retrofit program, Home Performance with ENERGY STAR.

Since participation in the ENERGY STAR program is voluntary, organizations are not required to submit information to EPA. Information received to date has been submitted voluntarily to EPA and is not of a confidential nature. EPA has developed this ICR to obtain authorization to collect information from the public, including businesses, for the following activities:

ENERGY STAR Partnership and Related Activities: An organization interested in joining ENERGY STAR as a partner is asked to submit a partnership agreement establishing its commitment to ENERGY STAR. Partners agree to undertake efforts such as educating their staff and the public about their partnership with ENERGY STAR, developing and implementing a plan to improve energy performance in homes, and highlighting achievements utilizing the ENERGY STAR brand.

Evaluation: Partners and other program participants are asked to periodically submit information to EPA as needed to assist in evaluating ENERGY STAR's effectiveness in helping organizations promote energy efficiency in homes, to assess partners' level of interest and ability in promoting ENERGY STAR in the residential sector, and to determine the impact that ENERGY STAR has on residential energy use and the supply and demand for energy-efficient homes and home improvement products and services.

Periodic Reporting: Partners are asked to submit information to EPA periodically to assist EPA in tracking and measuring progress in building and promoting ENERGY STAR certified homes and installing and promoting energy-efficient improvements. This includes submitting quarterly updates on partners' level of activity in certifying new homes for the ENERGY STAR label and activity in improving the energy efficiency of existing homes under Home Performance with ENERGY STAR and ENERGY STAR's HVAC Quality Installation program.

ENERGY STAR Awards: Each year, partners are eligible for an ENERGY STAR award, which recognizes organizations demonstrating outstanding support in promoting ENERGY STAR. This award program provides partners public recognition and market differentiation. An application form is submitted to EPA by partners interested in being eligible for an award.

Burden Statement: The annual burden for joining ENERGY STAR and conducting related activities is estimated to range from about 1 to 40 hours per respondent. This includes time for preparing and submitting the Partnership Agreement and related information, if requested. However, the majority of this time is for verification organization partners to verify that site-built, modular, and manufactured homes meet specified energy efficiency standards. The annual burden for partner evaluations is estimated to be about 15 minutes per respondent. This includes time for responding to EPA's questions posed during a phone interview or other method. The annual burden for quarterly reporting is estimated to be about 75 hours per respondent. This includes time for submitting specified information to EPA on a quarterly basis. The annual burden for the annual awards is estimated to be about 13 hours per respondent. This includes time for preparing and submitting the application materials and, if requested, an annual report.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 56,000.

Frequency of response: Once, quarterly, annually, and occasionally.

Estimated total annual burden hours: 180,958.

Estimated total annual costs: $10.9 million. This includes an estimated cost of approximately $10.9 million for labor and $17,000 for capital investment, operation and maintenance.

Are there changes in the estimates from the last approval?

The burden estimates presented in this notice are from the last approval. EPA is currently evaluating and updating these estimates as part of the ICR renewal process. EPA will discuss its updated estimates, as well as changes from the last approval, in the next Federal Register notice to be issued for this renewal.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: August 13, 2012.
Elizabeth Craig,
Director, Climate Protection Partnerships Division.

[FR Doc. 2012-20512 Filed 8-20-12; 8:45 am]

BILLING CODE 6560-50-P